SECURITIES AND EXCHANGE COMMISSION

Sunshine Act Meetings; Notice

Notice is hereby given, pursuant to the provisions of the Government in the Sunshine Act, Pub. L. 94-409, that the Securities and Exchange Commission will hold the following meetings during the week of July 24, 2006:

An open meeting will be held on Wednesday, July 26, 2006 at 10 a.m. in the Auditorium, Room LL-002, and a Closed Meeting will be held on Thursday, July 27, 2006 at 2 p.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c)(5), (6), (7), (9)(B), (10) and 17 CFR 200.402(a)(5), (6), (7), (9)(ii), and (10) permit consideration of the scheduled matters at the Closed Meeting.

Commissioner Nazareth, as duty officer, voted to consider the items listed for the closed meeting in closed session.

The subject matter of the Open Meeting scheduled for Wednesday, July 26, 2006 will be:

The Commission will consider whether to adopt amendments to the disclosure requirements for executive and director compensation, related party transactions, director independence and other corporate governance matters, and security ownership of officers and directors. The Commission will also consider whether to adopt final rules requiring that disclosure under the amended items generally be provided in plain English.

The subject matter of the closed meeting scheduled for Thursday, July 27, 2006 will be: Formal orders of investigation; Institution and settlement of injunctive actions; Institution and settlement of administrative proceedings of an enforcement nature; Collection matters; Resolution of litigation claims; Litigation matters; and An adjudicatory matter.

At times, changes in Commission priorities require alterations in the scheduling of meeting items.

For further information and to ascertain what, if any, matters have been added, deleted or postponed, please contact: The Office of the Secretary at (202) 551-5400.

Dated: July 18, 2006.
Nancy M. Morris,
Secretary.

[FR Doc. 06-6408 Filed 7-19-06; 10:55 am]

BILLING CODE 8010-01-P